DEPARTMENT OF COMMERCE

National Oceanic and Atmospheric Administration

Agency Information Collection Activities; Submission to the Office of Management and Budget (OMB) for Review and Approval; Comment Request; Nomination Process for National Marine Sanctuaries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 11, 2020, during a 60-day comment period. This notice allows for an additional 30 days for public comments.

Agency: National Oceanic and Atmospheric Administration.

Title: Nomination Process for National Marine Sanctuaries.

OMB Control Number: 0648-0682.

Form Number(s): None.

Type of Request: Regular submission, extension of a current information collection.

Number of Respondents: 5.

Average Hours per Response: 115 hours per nomination and 8 hours for additional information.

Total Annual Burden Hours: 591.

Needs and Uses: This request is for an extension of an existing information collection necessary to provide the American public an opportunity to nominate marine areas which the National Oceanic and Atmospheric Administration (NOAA) may consider for designation as a national marine sanctuary, under the National Marine Sanctuaries Act. This sanctuary nomination process, as finalized on June 13, 2014 (79 FR 33851), accepts proposals generated and driven by local and regional community groups and coalitions; these groups are responsible for submitting all information in support of their respective nominations. NOAA began accepting new sanctuary nominations in 2014, after an OMB Control Number for this information collection was confirmed.

Affected Public: Business or other for-profit organizations; Not-for-profit institutions; State, Local, or Tribal government; Federal government.

Frequency: Once, with follow-up requests for more information possible.

Respondent's Obligation: Voluntary.

Legal Authority: 16 U.S.C. 1431 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0682.

Sheleen Dumas,
Department PRA Clearance Officer, Office of the Chief Information Officer, Commerce Department.

[FR Doc. 2020-18060 Filed 8-18-20; 8:45 am]

BILLING CODE 3510-NK-P